CORPORATION FOR NATIONAL AND COMMUNITY SERVICE

Sunshine Act Meeting Notice

The Board of Directors of the Corporation for National and Community Service gives notice of the following meeting:

Date and Time: Tuesday, February 5, 2008, 4 p.m.-5:30 p.m.

Place: Corporation for National and Community Service; 8th Floor; 1201 New York Avenue, NW.; Washington, DC 20525.

Status: Open.

Matters To Be Considered:

I. Chair's Opening Remarks

II. Consideration of Prior Meeting's Minutes

III. CEO Report

IV. Committee Reports

V. Public Comment

Accommodations: Anyone who needs an interpreter or other accommodation should notify the Corporation's contact person by 5 p.m. Monday, February 4, 2008.

Contact Person for More Information: Lisa Guccione, Senior Policy Advisor, Office of the CEO, Corporation for National and Community Service, 10th Floor, Room 10207, 1201 New York Avenue, NW., Washington, DC 20525. Phone (202) 606-6637. Fax (202) 606-3460. TDD: (202) 606-3472. E-mail: lguccione@cns.gov.

Dated: January 25, 2008.
Frank R. Trinity,
General Counsel.

[FR Doc. 08-403 Filed 1-25-08; 12:18 pm]

BILLING CODE 6050-$$-P